ENVIRONMENTAL PROTECTION AGENCY

40 CFR Part 9

[EPA-HQ-OPPT-2025-0224; FRL-12001-01-OCSPP]

Technical Amendment to the List of OMB Approvals Under the Paperwork Reduction Act

AGENCY: Environmental Protection Agency (EPA).

ACTION: Final rule.

SUMMARY: In compliance with the Paperwork Reduction Act (PRA), this technical amendment updates the table that lists the control numbers issued by the Office of Management and Budget (OMB) under the PRA for information collection activities contained in certain EPA regulations that are promulgated in title 40 of the Code of Federal Regulations (CFR). This technical amendment adds or amends the OMB Control Numbers for existing approved collection activities and removes the OMB Control Numbers that have expired and/or have been discontinued.

DATES: This final rule is effective June 30, 2025.

ADDRESSES: The docket for this action, identified by docket identification (ID) number EPA-HQ-OPPT-2025-0224, is available online at https://www.regulations.gov. Additional information about dockets generally, along with instructions for visiting the docket in-person, is available at https://www.epa.gov/dockets.

FOR FURTHER INFORMATION CONTACT: Katherine Sleasman, Office of Program Support (7602M), Office of Chemical Safety and Pollution Prevention, Environmental Protection Agency, 1200 Pennsylvania Ave. NW, Washington, DC 20460-0001; telephone number: (202) 566-1204; email address: sleasman.katherine@epa.gov.

SUPPLEMENTARY INFORMATION:

I. Executive Summary

A. Does this action apply to me?

This action, which consolidates publicly available information about OMB approval of certain information collections without affecting any related activities or requirements, is directed to the public in general. Although this action may be of particular interest to those who would follow the EPA listing of OMB Control Numbers in 40 CFR part 9, the Agency has not attempted to describe all the specific entities that may be interested.

B. What action is the Agency taking?

This document updates the OMB Control Numbers listed in 40 CFR part 9 for various actions published in the Federal Register that were issued under the Toxic Substances Control Act (TSCA) (15 U.S.C. 2601 et seq.), the Federal Insecticide, Fungicide, and Rodenticide Act (FIFRA) (7 U.S.C. 136 et seq.), the Federal Food, Drug, and Cosmetic Act (FFDCA) (21 U.S.C. 408), and the Emergency Planning and Community Right-to-Know Act (EPCRA) (42 U.S.C. 11001 et seq.). With this technical amendment, EPA is updating the table in 40 CFR 9.1 to reflect changes to the OMB Control Numbers assigned to the information collection activities contained in the EPA regulations in title 40 of the CFR. The activities or their corresponding OMB Control Numbers may have changed due to the publication of a final rule without a corresponding amendment to 40 CFR part 9, or due to other implementation activities that resulted in the subsequent issuance of a new OMB Control Number under the PRA (e.g., the consolidation of activities, or transfer of activities to another ICR). This final rule simply updates the table to reflect the currently valid OMB Control Numbers.

C. What is the Agency's authority for taking this action?

An agency may not conduct or sponsor, and a person is not required to respond to a collection of information that requires OMB approval under the PRA (44 U.S.C. 3501 et seq.) unless it displays a currently valid OMB Control Number. To satisfy the display requirements of the PRA and OMB's implementing regulations at 5 CFR part 1320, the Agency displays the OMB Control Numbers for certain EPA regulations in 40 CFR part 9, in related documents that publish in the Federal Register, or by other appropriate means, such as on a related collection instrument or form, reporting system or as part of the instructions and guidance given to respondents, as applicable.

D. Why is this technical amendment issued as a final rule?

Section 553(b)(B) of the Administrative Procedure Act (APA), 5 U.S.C. 553(b)(B), provides that, when an agency for good cause finds that public notice and comment procedures are impracticable, unnecessary, or contrary to the public interest, the agency may issue a rule without providing notice and an opportunity for public comment.

The information collection activities referenced in this document were previously subject to public notice and comment as part of the rulemaking process and submission of the related requests for OMB review and approval of the information collection activities contained in those rulemakings. EPA is not making any substantive changes to the information collection activities listed in 40 CFR 9.1. The Agency is only amending the list of information collections to align it with OMB approved collection activities that underwent public notice and comment process under the APA for the information collection activities associated with rulemakings, as well as consolidations of ongoing collection activities announced through the public notice and comment process per the PRA, because this action only updates the CFR to reflect changes and additions that have already occurred and for which EPA previously provided an opportunity for notice and comment. As such, EPA is not exercising any discretion in this action, but is instead making a ministerial update to the CFR. EPA thus has determined that there is good cause for making this rule final without prior proposal and opportunity comment because such notice and opportunity for comment is unnecessary. In addition, as they are ministerial updates, these revisions do not alter any regulatory requirements. For the reasons discussed in this unit, the Agency also finds that good cause exists under APA section 553(d) to make this rule effective immediately upon publication in the Federal Register. EPA is not exercising discretion in this action, but is instead making an administrative change to the CFR.

II. Summary of Changes

EPA is updating the table at 40 CFR 9.1 to correctly reflect OMB's approval of the information collection activities contained in the final rules listed in 40 CFR parts 150 through 190, part 372, and parts 700 through 799, and the ICRs identified in this unit. You may access the record of OMB's approval of the rule-related ICRs and any OMB Terms of Clearance online at https://www.reginfo.gov/public/do/PRASearch by searching for the record using the identified ICR Reference Number.

• Labeling Change for Certain Minimum Risk Pesticides under FIFRA Section 25(b) (OMB Control No. 2070-0187, EPA ICR No. 2475). See the corresponding final rule issued in the Federal Register of December 18, 2015 (80 FR 80653; FRL-9934-44) and the record of OMB's approval of the rule-related ICR under ICR Reference No. 201512-2070-001.

• Agricultural Worker Protection Standard Training, Notification and Recordkeeping (OMB Control No. 2070-0190, EPA ICR No. 2491). See the corresponding final rule issued in the Federal Register of November 11, 2015 (80 FR 67496; FRL-9931-81) and the record of OMB's approval of the rule-related ICR under ICR Reference No. 201510-2070-001.

• Pesticides; Certification of Pesticide Applicators (OMB Control No. 2070-0196; EPA ICR No. 2499). See the corresponding final rule issued in the Federal Register of January 4, 2017 (82 FR 952; FRL-9956-70) and the record of OMB's approval of the rule-related ICR under ICR Reference No. 201508-2070-002.

• Exemptions of Certain Plant-Incorporated Protectants (PIPs) Derived from Newer Technologies Rulemaking (OMB Control No. 2070-0214; EPA ICR No. 2619). See the corresponding final rule issued in the Federal Register of May 31, 2023 (88 FR 34756; FRL-7261-04-OCSPP) and the record of OMB's approval of the rule-related ICR under ICR Reference No. 202305-2070-003.

• Changes to Reporting Requirements for Per- and Polyfluoroalkyl Substances and to Supplier Notifications for Chemicals of Special Concern; Community Right-to-Know Toxic Chemical Release Reporting (OMB Control No. 2070-0226; EPA ICR No.2724). See the corresponding final rule issued in the Federal Register of October 31, 2023 (88 FR 74360; FRL-8741-04-OCSPP) and the record of the OMB's approval of the rule-related ICR under ICR Reference No. 202212-2070-001.

• Parent Company Definition for Toxics Release Inventory (TRI) Reporting (OMB Control No. 2070-0216; EPA ICR No.2597). See the corresponding final rule issued in the Federal Register of October 21, 2022 (87 FR 63950; FRL-6004-02-OCSPP) and the record of the OMB's approval of the rule-related ICR under ICR Reference No. 202109-2070-001.

• User Fees for the Administration of the Toxic Substances Control Act (TSCA) (OMB Control No. 2070-0208, EPA ICR No. 2567). See the corresponding final rule issued in the Federal Register of October 17, 2018 (83 FR 52694; FRL-9984-41-OCSPP) and the record of OMB's approval of the rule-related ICR under ICR Reference No. 201810-2070-001.

• Procedures for Requesting a Chemical Risk Evaluation under TSCA (OMB Control No. 2070-0231, EPA ICR No. 2781). See the corresponding final rule issued in the Federal Register of May 3, 2024 (89 FR 37028; FRL-8259-02-OCSPP) and the record of OMB's approval of the rule-related ICR under ICR Reference No. 202405-2070-001.

• Confidential Business Information Claims Under the Toxic Substances Control Act (TSCA) (OMB Control No. 2070-0223; EPA ICR No. 2706). See the corresponding final rule issued in the Federal Register of June 7, 2023 (88 FR 37155; FRL-8223-02-OCSPP) and the recored of OMB's approval of the rule-related ICR under ICR reference No. 202205-2070-003.

• Chemical Substances When Manufactured or Processed as Nanoscale Materials; TSCA Reporting and Recordkeeping Requirements (OMB Control No. 2070-0194; EPA ICR No. 2517). See the corresponding final rule issued in the Federal Register of January 12, 2017 (82 FR 3641; FRL-9957-81) and the recored of OMB's approval of the rule-related ICR under ICR reference No. 201503-2070-004.

• TSCA Section 8(a) Reporting and Recordkeeping Requirements for Asbestos (OMB Control No. 2070-0222; EPA ICR No. 2711). See the corresponding final rule issued in the Federal Register of July 25, 2023 (88 FR 47782; FRL-8632-01-OCSPP) and the record of OMB's approval of the rule-related ICR under ICR Reference No. 202307-2070-002.

• Toxic Substances Control Act Reporting and Recordkeeping Requirements for Perfluoroalkyl and Polyfluoroalkyl Substances (OMB Control No. 2070-0217; EPA ICR No. 2682). See the corresponding final rule issued in the Federal Register of October 11, 2023 (88 FR 47782; FRL-7902-02-OCSPP) and the record of OMB's approval of the rule-related ICR under ICR Reference No. 202106-2070-002.

• TSCA Section 8(b) Reporting Requirements for TSCA Inventory Notification (Active-Inactive) Requirements (OMB Control No. 2070-0201, EPA ICR No. 2565). See the corresponding final rule issued in the Federal Register of August 11, 2017 (82 FR 37520; FRL-9964-22) and the record of OMB's approval of the rule-related ICR under ICR Reference No. 201708-2070-004.

• Partial Update of the TSCA Section 8(a) Inventory Data Base, Production and Site Reports (Chemical Data Reporting) (OMB Control No. 2070-0162, EPA ICR No. 1884). See the corresponding final rule issued in the Federal Register of August 16, 2011 (76 FR 50815; FRL-8872-9) and amended final rule TSCA Inventory Update Reporting Modifications; Chemical Data Reporting on September 6, 2011 (76 FR 54932; FRL-8872-9) (OMB Control No. 2070-0162, EPA ICR No. 1884) and the record of OMB's approval of the rule-related ICR under ICR Reference No. 200905-2070-001.

• Partial Exemption of Certain Chemical Substances from Reporting Additional Chemical Data (OMB Control No. 2070-0162; EPA ICR No. 1884). See the corresponding final rule issued in the Federal Register of June 19, 2014 (79 FR 35096; FRL-9910-84) and the record of OMB's approval of the rule-related ICR under ICR Reference No. 201108-2070-002.

• Partial Exemption of Certain Chemical Substances from Reporting Additional Chemical Data (OMB Control No. 2070-0162; EPA ICR No. 1884). See the corresponding final rule issued in the Federal Register of March 29, 2016 (81 FR 17392; FRL-9941-19) and the record of OMB's approval of the rule-related ICR under ICR Reference No. 201603-2070-002.

• Small Manufacturer Definition Update for Reporting and Recordkeeping Requirements Under the Toxic Substances Control Act (TSCA) Section 8(a) (OMB Control No. 2070-0162; EPA ICR No. 1884). See the corresponding final rule issued in the Federal Register of May 8, 2020 (85 FR 31986; FRL-10008-14) and the record of OMB's approval of the rule-related ICR under ICR Reference No. 201904-2070-006.

• Mercury; Reporting Requirements for TSCA Mercury Inventory (OMB Control No. 2070-0207, EPA ICR No. 2567). See the corresponding final rule issued in the Federal Register of June 27, 2018, (83 FR 30054; FRL-9979-74), as amended by a final rule issued in the Federal Register of November 8, 2021 (86 FR 61708; FRL-8523-02-OCSPP) and the record of OMB's approval of the rule-related ICR under ICR Reference No. 201806-2070-003.

• Reconsideration of the Dust-Lead Hazard Standards and Dust-Lead Post-Abatement Clearance Levels (OMB Control No. 2070-0227; EPA ICR No. 2760). See the corresponding final rule issued in the Federal Register of November 11, 2024 (89 FR 89416; FRL-8524-02-OCSPP) and the record of OMB's approval of the rule-related ICR under ICR Reference No. 202308-2070-001.

• Methylene Chloride; Regulation of Paint and Coating Removal for Consumer Use Under TSCA Section 6(a) (OMB Control No. 2070-0204, EPA ICR No. 2556). See the corresponding final rule issued in the Federal Register of March 27, 2019 (84 FR 11420; FRL-9989-29) and the record of OMB's approval of the rule-related ICR under ICR Reference No. 201903-2070-003.

• Methylene Chloride; Regulation under the Toxic Substances Control Act (OMB Control No. 2070-0204, EPA ICR No. 2735). See the corresponding final rule issued in the Federal Register of May 8, 2024 (89 FR 39254; FRL-8155-01-OCSPP) and the record of OMB's approval of the rule-related ICR under ICR Reference No. 202305-2070-001.

• Trichloroethylene (TCE); Regulation under the Toxic Substances Control Act (TSCA) (OMB Control No. 2070-0232, EPA ICR No. 2775). See the corresponding final rule issued in the Federal Register of December 17, 2024 (89 FR 102568; FRL-8317-02-OCSPP) and the record of OMB's approval of the rule-related ICR under ICR Reference No. 202311-2070-001.

• Hexachlorobutadiene (HCBD); Regulation of Persistent, Bioaccumulative, and Toxic Chemicals under TSCA Section 6(h) (OMB Control No. 2070-0213, EPA ICR No. 2599). See the corresponding final rule issued in the Federal Register of January 6, 2021 (86 FR 922; FRL-10018-90) and the record of OMB's approval of the rule-related ICR under ICR Reference No. 202005-2070-001.

• 2,4,6-tris(tert-butyl)phenol (2,4,6-TTBP); Regulation of Persistent, Bioaccumulative, and Toxic Chemicals under TSCA Section 6(h) (OMB Control No. 2070-0213, EPA ICR No. 2599). See the corresponding final rule issued in the Federal Register of January 6, 2021 (86 FR 866; FRL-10018-90) and the record of OMB's approval of the rule-related ICR under ICR Reference No. 202005-2070-001.

• Pentachlorothiophenol (PCTP); Regulation of Persistent, Bioaccumulative, and Toxic Chemicals under TSCA Section 6(h) (OMB Control No. 2070-0213, EPA ICR No. 2599). See the corresponding final rule issued in the Federal Register of January 6, 2021 (86 FR 911; FRL-10018-89) and the record of OMB's approval of the rule-related ICR under ICR Reference No. 202005-2070-001.

• Phenol, Isopropylated Phosphate (3:1) (PIP 3:1); Regulation of Persistent, Bioaccumulative, and Toxic Chemicals under TSCA Section 6(h) (OMB Control No. 2070-0213, EPA ICR No. 2599). See the corresponding final rule issued in the Federal Register of January 6, 2021 (86 FR 894; FRL-10018-88) and the record of OMB's approval of the rule-related ICR under ICR Reference No. 202005-2070-001.

• Decabromodiphenyl Ether and Phenol, Isopropylated Phosphate (3:1); Revision to the Regulation of Persistent, Bioaccumulative, and Toxic Chemicals under the Toxic Substances Control Act (TSCA) (OMB Control No. 2070-0213, EPA ICR No. 2599). See the corresponding final rule issued in the Federal Register of January 6, 2021 (86 FR 866; FRL-10018-90) and the record of OMB's approval of the rule-related ICR under ICR Reference No. 202005-2070-001.

• Decabromodiphenyl Ether and Phenol, Isopropylated Phosphate (3:1); Revision to the Regulation of PBT Chemicals under TSCA (Final Rule) (OMB Control No. 2070-0230, EPA ICR No. 2779). See the corresponding final rule issued in the Federal Register of November 19, 2024 (89 FR 91486; FRL-9145-02-OCSPP) and the record of OMB's approval of the rule-related ICR under ICR Reference No. 202401-2070-001.

• Asbestos Part 1; Chrysotile Asbestos; Regulation of Certain Conditions of Use Under the Toxic Substances Control Act (TSCA) (OMB Control No. 2070-0220 EPA ICR No. 2707). See the corresponding final rule issued in the Federal Register of March 28, 2024, (89 FR 21970; FRL-8332-01-OCSPP) and the record of OMB's approval of the rule-related ICR under ICR Reference No. 202204-2070-002.

• Perchloroethylene (PCE); Regulation under the Toxic Substances Control Act (TSCA) (OMB Control No. 2070-0233, EPA ICR No. 2740). See the corresponding final rule issued in the Federal Register of December 18, 2024 (89 FR 103560; FRL-8329-01-OCSPP) and the record of OMB's approval of the rule-related ICR under ICR Reference No. 202501-2070-002.

• Carbon Tetrachloride (CTC); Regulation under the Toxic Substances Control Act (TSCA) (OMB Control No. 2070-0228, EPA ICR No. 2744). See the corresponding final rule issued in the Federal Register of December 18, 2024 (89 FR 103512; FRL-8206-02-OCSPP) and the record of OMB's approval of the rule-related ICR under ICR Reference No. 202308-2070-003.

• Formaldehyde Emissions Standards for Composite Wood Products Act (OMB Control No. 2070-0185, EPA ICR No. 2446). See the corresponding final rule issued in the Federal Register of December 12, 2016 (81 FR 89674; FRL-9949-90), and the record of OMB's approval of the rule-related ICR under ICR Reference No. 201611-2070-003.

EPA is also amending the OMB Control Numbers of several existing entries to reflect changes to the OMB Control Numbers since the table was last updated. For example, EPA consolidated the activities that were approved under OMB Control Number 2070-0038 (EPA ICR No. 1188.13) and OMB Control Number 2070-0012 (EPA ICR No. 0574.18) into a single OMB Control Number ICR approved under OMB control number 2070-0038 as announced in the Federal Register on June 29, 2022 (87 FR 38745 (FRL-9980-01-OMS)). EPA also consolidated the information collection activities for the following OMB control numbers: 2070-0004 (EPA ICR No. 0575.16); 2070-0017 (EPA ICR No. 1031.12); 2070-0054 (EPA ICR No. 0586.14); and 2070-0067 (EPA ICR No. 1198.10) into a single ICR approved under OMB control number 2070-0224 (EPA ICR No. 2703.01) as announced in the Federal Register on August 30, 2022 (87 FR 52967 (FRL-10179 01-OMS)). Finally, the Agency consolidated the following OMB control numbers: 2070-0024 (EPA ICR No. 0597.13); 2070-0039 (EPA ICR No. 1204.14); 2070-0040 (EPA ICR No. 0276.17); 2070-0044 (EPA ICR No. 0278.13); 2070-0052 (EPA ICR No. 0616.13); 2070-0060 (EPA ICR No. 0277.21); 2070-0142 (EPA ICR No. 1693.10); and 2070-0182 (EPA ICR No. 2311.04) into a single ICR approved under OMB control number 2070-0226 (EPA ICR No. 2642.01) as announced in the Federal Register on June 30, 2023 (88 FR 42358 (FRL-11117-01-OMS)).

EPA is modifying the table through technical corrections to the text. as well as the consolidation of several listings. Specifically, in some cases the table listing for several sections that now share the same OMB control number have been consolidated into a single listing for the part or subpart when every section shares the same OMB Control Number, and the headings have also been amended to align with redesignations in the CFR that occurred through rulemakings.

III. Statutory and Executive Order Reviews

Additional information about these statutes and Executive Orders can be found at https://www.epa.gov/laws-regulations/laws-and-executive-orders.

A. Executive Order 12866: Regulatory Planning and Review

This action is not a significant regulatory action and was therefore not submitted to the Office of Management and Budget (OMB) for review under Executive Order 12866 (58 FR 51735, October 4, 1993).

B. Executive Order 14192: Unleashing Prosperity Through Deregulation

Executive Order 14192 (90 FR 9065, February 6, 2025) does not apply because this action is exempted from review under Executive Order 12866.

C. Paperwork Reduction Act (PRA)

This action does not contain or amend an information collection burden under the PRA, 44 U.S.C. 3501 et seq. because it is a technical amendment to 40 CFR 9.1.

D. Regulatory Flexibility Act (RFA)

This action is not subject to the RFA, 5 U.S.C. 601 et seq. The RFA applies only to rules subject to notice and comment rulemaking requirements under the APA, 5 U.S.C. 553, or any other statute. This rule is not subject to notice and comment requirements under the APA because the Agency has invoked the APA “good cause” exemption (see Unit I.).

E. Unfunded Mandates Reform Act (UMRA)

This action does not contain an unfunded mandate of $100 million (in 1995 dollars and adjusted annually for inflation) or more as described in UMRA, 2. U.S.C. 1531-1538, and does not significantly or uniquely affect small governments. The action imposes no enforceable duty on any State, local or Tribal governments or the private sector.

F. Executive Order 13132: Federalism

This action does not have federalism implications as specified in Executive Order 13132 (64 FR 43255, August 10, 1999), because it will not have substantial direct effects on the states, on the relationship between the National Government and the States, or on the distribution of power and responsibilities among the various levels of government.

G. Executive Order 13175: Consultation and Coordination With Indian Tribal Governments

This action will not have tribal implications as defined in Executive Order 13175 (65 FR 67249, November 9, 2000) because this action will not have substantial direct effects on tribal governments, on the relationship between the Federal Government and Indian tribes, or on the distribution of power and responsibilities between the Federal Government and Indian tribes.

H. Executive Order 13045: Protection of Children From Environmental Health Risks and Safety Risks

This action is not subject to Executive Order 13045 (62 FR 19885, April 23, 1997), because it does not address environmental health or safety risks disproportionately affecting children. Since this action does not concern human health, EPA's 2021 Policy on Children's Health also does not apply.

I. Executive Order 13211: Actions Concerning Regulations That Significantly Affect Energy Supply, Distribution, or Use

This action is not a “significant energy action” as defined in Executive Order 13211 (66 FR 28355, May 22, 2001), because it is not likely to have any adverse effect on the supply, distribution or use of energy.

J. National Technology Transfer and Advancement Act (NTTAA)

This action does not involve technical standards under the NTTAA section 12(d), 15 U.S.C. 272.

K. Congressional Review Act (CRA)

This action is subject to the CRA, 5 U.S.C. 801 et seq., and EPA will submit a rule report to each House of the Congress and to the Comptroller General of the United States. This does not meet the criteria set forth in 5 U.S.C. 804(2).

List of Subjects in 40 CFR Part 9

Environmental protection, Reporting and recordkeeping requirements.

Dated: June 18, 2025.
Nancy B. Beck,
Principal Deputy Assistant Administrator, Office of Chemical Safety and Pollution Prevention.

For the reasons stated in the preamble, 40 CFR chapter I is amended as follows:

PART 9—OMB APPROVALS UNDER THE PAPERWORK REDUCTION ACT

1. The authority citation for part 9 continues to read as follows:

Authority: 7 U.S.C. 135 et seq., 136-136y; 15 U.S.C. 2001, 2003, 2005, 2006, 2601-2671, 21 U.S.C. 331j, 346a, 348; 31 U.S.C. 9701; 33 U.S.C. 1251 et seq., 1311, 1313d, 1314, 1318, 1321, 1326, 1330, 1342, 1344, 1345 (d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. Revise and republish § 9.1 to read as follows:

§ 9.1 OMB approvals under the Paperwork Reduction Act.

This part consolidates the display of control numbers assigned to collections of information in certain EPA regulations by the Office of Management and Budget (OMB) under the Paperwork Reduction Act (PRA). No person is required to respond to an information collection request regulated by the PRA unless a valid control number assigned by OMB is displayed in either this part, another part of the Code of Federal Regulations, a valid Federal Register notice, or by other appropriate means.

40 CFR citation | OMB control No.
Public Information
Part 2, subpart B | 2020-0003
Environmental Impact Assessment of Nongovernmental Activities in Antarctica
Part 3 | 2025-0003
8.5-8.10 | 2020-0007
Protection of Human Subjects
26.1125 | 2070-0169
26.1303 | 2070-0169
General Regulation for Assistance Programs for Other Than State and Local Governments
30.400 | 2030-0020
30.500 | 2030-0020
30.501 | 2030-0020
30.503 | 2030-0020
30.505 | 2030-0020
30.510 | 2030-0020
30.520 | 2030-0020
30.530 | 2030-0020
30.531 | 2030-0020
30.532 | 2030-0020
30.535 | 2030-0020
30.1002 | 2030-0020
30.1003 | 2030-0020
30.1200 | 2030-0020
Uniform Administrative Requirements for Grants and Cooperative Agreements to State and Local Governments
31.10 | 2030-0020
31.20-31.21 | 2030-0020
31.31-31.32 | 2030-0020
31.36(g)-31.36(h) | 2030-0020
31.40 | 2030-0020
31.42 | 2030-0020
31.6 | 2030-0020
Procurement Under Assistance Agreements
33.110 | 2030-0003
33.211 | 2030-0003
State and Local Assistance
35.2015 | 2040-0027
35.2025 | 2040-0027
35.2034 | 2040-0027
35.2040 | 2040-0027
35.2105-35.2107 | 2040-0027
35.2110 | 2040-0027
35.2114 | 2040-0027
35.2118 | 2040-0027
35.2120 | 2040-0027
35.2127 | 2040-0027
35.2130 | 2040-0027
35.2140 | 2040-0027
35.2211-35.2212 | 2040-0027
35.2215-35.2216 | 2040-0027
35.2218 | 2040-0027
35.3010 | 2040-0095
35.3030 | 2040-0095
35.3130 | 2040-0118
35.3135 | 2040-0118
35.3140 | 2040-0118
35.3145 | 2040-0118
35.3150 | 2040-0118
35.3155 | 2040-0118
35.3160 | 2040-0118
35.3165 | 2040-0118
35.3170 | 2040-0118
35.3540(c) | 2040-0185
35.3545(a)-(f) | 2040-0185
35.3550(a)-(p) | 2040-0185
35.3555(a)-(d) | 2040-0185
35.3560(a), (d)-(g) | 2040-0185
35.3565(a)-(f) | 2040-0185
35.3570(a)-(d) | 2040-0185
35.3575(a)-(e) | 2040-0185
35.3580(a)-(h) | 2040-0185
35.3585(b)-(c) | 2040-0185
35.6055(a)(2) | 2050-0179
35.6055(b)(1) | 2050-0179
35.6055(b)(2)(i)-(ii) | 2050-0179
35.6105(a)(2)(i)-(v), (vii) | 2050-0179
35.6120 | 2050-0179
35.6145 | 2050-0179
35.6155(a), (c) | 2050-0179
35.6230(a), (c) | 2050-0179
35.6300(a)(3) | 2050-0179
35.6315(c) | 2050-0179
35.6320 | 2050-0179
35.6340(a) | 2050-0179
35.6350 | 2050-0179
35.6500 | 2050-0179
35.6550(b)(2)(i) | 2050-0179
35.6585 | 2050-0179
35.6595(a), (b) | 2050-0179
35.6600(a) | 2050-0179
35.6650 | 2050-0179
35.6655 | 2050-0179
35.6660 | 2050-0179
35.6665(a), (b) | 2050-0179
35.6700 | 2050-0179
35.6705 | 2050-0179
35.6710 | 2050-0179
35.6805 | 2050-0179
35.6815(a), (c), (d) | 2050-0179
35.9000-35.9070 | 2040-0138
Fellowships
46.155 | 2030-0004
46.170(a) | 2030-0020
46.185(a) | 2030-0020
46.190(a) and (b) | 2030-0020
46.200(a) | 2030-0020
46.230(a) | 2030-0020
Tribal Clean Air Act Authority
49.6 | 2060-0306
49.7 | 2060-0306
49.126(e)(1)(i) | 2060-0558
49.126(e)(1)(iii) | 2060-0558
49.126(e)(1)(v) | 2060-0558
49.127(e) | 2060-0558
49.130(f)(1)-(2) | 2060-0558
49.131(c)(4)-(5) | 2060-0558
49.132(d)(1) | 2060-0558
49.132(e)(1) | 2060-0558
49.133(c)(1) | 2060-0558
49.133(d)(1) | 2060-0558
49.134(c)(1) | 2060-0558
49.134(d)(1) | 2060-0558
49.138(d)-(f) | 2060-0558
49.139(c)(1) | 2060-0558
49.139(d) | 2060-0558
49.139(e)(2) | 2060-0558
Requirements for Preparation, Adoption, and Submittal of Implementation Plans
51.121-51.122 | 2060-0445
51.160-51.166 | 2060-0003
51.321-51.323 | 2060-0088
51.353-51.354 | 2060-0252
51.365-51.366 | 2060-0252
51.370-51.371 | 2060-0252
51.850-51.860 | 2060-0279
Approval and Promulgation of Implementation Plans
52.21 | 2060-0003
52.741 | 2060-0203
Ambient Air Monitoring Reference and Equivalent Methods
53.4 | 2080-0005
53.9(f), (h), (i) | 2080-0005
53.14 | 2080-0005
53.15 | 2080-0005
53.16(a)-(d), (f) | 2080-0005
Outer Continental Shelf Air Regulations
55.4-55.8 | 2060-0249
55.11-55.14 | 2060-0249
Ambient Air Quality Surveillance
58.11-58.14 | 2060-0084
58.20-58.23 | 2060-0084
58.25-58.28 | 2060-0084
58.30-58.31 | 2060-0084
58.33 | 2060-0084
58.35 | 2060-0084
58.40-58.41 | 2060-0084
58.43 | 2060-0084
58.45 | 2060-0084
58.50 | 2060-0084
National Volatile Organic Compound Emission Standards for Consumer and Commercial Products
59.105 | 2060-0353
59.405 | 2060-0393
59.407 | 2060-0393
59.408 | 2060-0393
National Volatile Organic Compound Emission Standards for Consumer Products
59.209 | 2060-0348
Standards of Performance for New Stationary Sources ¹
60.7(d) | 2060-0207
60.35c | 2060-0220
60.45-60.47 | 2060-0026
60.46a-60.49a | 2060-0023
60.40b | 2060-0072
60.42b | 2060-0072
60.44b-60.49b | 2060-0072
60.42c | 2060-0202
60.44c-60.48c | 2060-0202
60.53-60.54 | 2060-0040
60.50a | 2060-0210
60.56a-60.59a | 2060-0210
60.63-60.65 | 2060-0025
60.73-60.74 | 2060-0019
60.84-60.85 | 2060-0041
60.93 | 2060-0083
60.103a-60.108a | 2060-0602
60.104-60.108 | 2060-0022
60.113a-60.115a | 2060-0443
60.113b-60.116b | 2060-0443
60.123 | 2060-0080
60.133 | 2060-0110
60.142-60.144 | 2060-0029
60.143a-60.145a | 2060-0029
60.153-60.155 | 2060-0035
60.165(a) (d) | 2060-0110
60.175(b) (c) | 2060-0110
60.185(b) (c) | 2060-0110
60.192(b) | 2060-0031
60.194-60.195 | 2060-0031
60.203-60.204 | 2060-0037
60.213-60.214 | 2060-0037
60.223-60.224 | 2060-0037
60.233-60.234 | 2060-0037
60.243-60.244 | 2060-0037
60.253-60.254 | 2060-0122
60.264(b) (c) | 2060-0110
60.265(a) | 2060-0110
60.273-60.276 | 2060-0038
60.273a-60.276a | 2060-0038
60.284-60.286 | 2060-0021
60.292-60.293 | 2060-0054
60.296 | 2060-0054
60.303 | 2060-0082
60.310 | 2060-0106
60.313-60.316 | 2060-0106
60.334-60.335 | 2060-0028
60.343-60.344 | 2060-0063
60.373-60.374 | 2060-0081
60.384-60.386 | 2060-0016
60.393-60.396 | 2060-0034
60.398 | 2060-0034
60.403-60.404 | 2060-0111
60.433-60.435 | 2060-0105
60.443-60.447 | 2060-0004
60.453-60.456 | 2060-0108
60.463-60.466 | 2060-0107
60.473-60.474 | 2060-0002
60.482-2 | 2060-0443
60.482-3 | 2060-0443
60.482-4 | 2060-0443
60.482-7 | 2060-0443
60.482-8 | 2060-0443
60.482-10 | 2060-0443
60.483-1 | 2060-0443
60.483-2 | 2060-0443
60.484-60.487 | 2060-0443
60.493-60.496 | 2060-0001
60.502-60.503 | 2060-0006
60.505 | 2060-0006
60.530-60.536 | 2060-0161
60.537(a)(1)-(2), (a)(4)-(5), (b)-(i) | 2060-0161
60.538-60.539 | 2060-0161
60.543(b)(2)-(4), (c)-(n) | 2060-0156
60.544 | 2060-0156
60.545(a)-(d), (f) | 2060-0156
60.546(a)-(e), (f)(4)-(6), (g)-(j) | 2060-0156
60.547 | 2060-0156
60.562-1 | 2060-0443
60.562-2 | 2060-0443
60.563-60.565 | 2060-0443
60.580 | 2060-0073
60.583-60.585 | 2060-0073
60.592-60.593 | 2060-0067
60.603-60.604 | 2060-0059
60.613-60.615 | 2060-0443
60.622 | 2060-0079
60.624-60.625 | 2060-0079
60.632-60.636 | 2060-0120
60.640 | 2060-0120
60.642-60.644 | 2060-0120
60.646-60.647 | 2060-0120
60.663-60.665 | 2060-0443
60.670 | 2060-0050
60.672 | 2060-0050
60.674-60.676 | 2060-0050
60.683-60.685 | 2060-0114
60.692-1 | 2060-0172
60.692-2 | 2060-0172
60.692-3 | 2060-0172
60.692-4 | 2060-0172
60.692-5 | 2060-0172
60.693-1 | 2060-0172
60.693-2 | 2060-0172
60.695-60.698 | 2060-0172
60.703-60.705 | 2060-0443
60.710 | 2060-0171
60.713-60.717 | 2060-0171
60.722-60.725 | 2060-0162
60.734-60.736 | 2060-0251
60.740 | 2060-0181
60.743-60.747 | 2060-0181
60.757 | 2060-0220
60.758 | 2060-0220
National Emission Standards for Hazardous Air Pollutants ²
61.24-61.25 | 2060-0191
61.32-61.34 | 2060-0092
61.53-61.55 | 2060-0097
61.65(b)-(d) | 2060-0071
61.67-61.71 | 2060-0071
61.93-61.95 | 2060-0191
61.103-61.105 | 2060-0191
61.107 | 2060-0191
61.123-61.124 | 2060-0191
61.126 | 2060-0191
61.132-61.133 | 2060-0185
61.135-61.139 | 2060-0185
61.142 | 2060-0101
61.144-61.147 | 2060-0101
61.149 | 2060-0101
61.150-61.155 | 2060-0101
61.163-61.165 | 2060-0043
61.203 | 2060-0191
61.206-61.209 | 2060-0191
61.223-61.224 | 2060-0191
61.242-1 | 2060-0443
61.242-2 | 2060-0443
61.242-3 | 2060-0443
61.242-4 | 2060-0443
61.242-7 | 2060-0443
61.242-8 | 2060-0443
61.242-10 | 2060-0443
61.242-11 | 2060-0443
61.243-1 | 2060-0443
61.243-2 | 2060-0443
61.244-61.247 | 2060-0443
61.253-61.255 | 2060-0191
61.271-61.276 | 2060-0443
61.300 | 2060-0443
61.302-61.305 | 2060-0443
61.342 | 2060-0183
61.344-61.349 | 2060-0183
61.354-61.357 | 2060-0183
Approval and Promulgation of State Plans for Designated Facilities and Pollutants
62.14355 | 2060-0430
National Emission Standards for Hazardous Air Pollutants for Source Categories ³
63.5(d) | 2060-0330
63.52-63.56 | 2060-0266
63.72 | 2060-0222
63.74-63.79 | 2060-0222
63.91-63.97 | 2060-0264
63.103 | 2060-0282
63.105 | 2060-0443
63.117-63.118 | 2060-0443
63.122-63.123 | 2060-0443
63.129-63.130 | 2060-0443
63.146-63.148 | 2060-0443
63.151-63.152 | 2060-0443
63.181-63.182 | 2060-0443
63.302-63.311 | 2060-0253
63.322-63.325 | 2060-0234
63.345-63.347 | 2060-0327
63.363-63.367 | 2060-0283
63.403-63.406 | 2060-0268
63.420 | 2060-0325
63.422-63.428 | 2060-0325
63.450, 63.453-63.455, and 63.457 | 2060-0387
63.467-63.468 | 2060-0273
63.480-63.506 | 2060-0356
63.525-63.528 | 2060-0290
63.548-63.550 | 2060-0296
63.563-63.567 | 2060-0289
63.602-63.603 | 2060-0361
63.605-63.608 | 2060-0361
63.625-63.628 | 2060-0361
63.630 | 2060-0361
63.653 | 2060-0340
63.655 | 2060-0340
63.703-63.707 | 2060-0326
63.752-63.753 | 2060-0314
63.787(a)-(b) | 2060-0330
63.788(a)-(c) | 2060-0330
63.806-63.807 | 2060-0324
63.829-63.830 | 2060-0335
63.846(d) | 2060-0360
63.847(b), (g) | 2060-0360
63.848(d)(5), (e), (f)(5)(ii), (g), (k), (m) | 2060-0360
63.850 | 2060-0360
63.1155-63.1174 | 2060-0419
63.1178-63.1194 | 2060-0362
63.1200-63.1221 | 2050-0171
63.1259-63.1260 | 2060-0358
63.1290-63.1309 | 2060-0357
63.1311 | 2060-0351
63.1314 | 2060-0351
63.1315 | 2060-0351
63.1319 | 2060-0351
63.1320 | 2060-0351
63.1325-63.1332 | 2060-0351
63.1335 | 2060-0351
63.1367-63.1368 | 2060-0370
63.1383 | 2060-0359
63.1386 | 2060-0359
63.1387 | 2060-0359
63.1420-63.1439 | 2060-0415
63.1620-63.1679 | 2060-0391
63.11080-63.11100 | 2060-0620
63.11110-63.11132 | 2060-0620
63.11647-63.11648 | 2060-NEW
Consolidated Federal Air Rule
65.5 | 2060-0443
65.6 | 2060-0443
65.47 | 2060-0443
65.48 | 2060-0443
65.66 | 2060-0443
65.63 | 2060-0443
65.67 | 2060-0443
65.83 | 2060-0443
65.87 | 2060-0443
65.102 | 2060-0443
65.103-65.106 | 2060-0443
65.109 | 2060-0443
65.111 | 2060-0443
65.117-65.120 | 2060-0443
65.159 | 2060-0443
65.160 | 2060-0443
65.162 | 2060-0443
65.163 | 2060-0443
65.164 | 2060-0443
65.165 | 2060-0443
65.166 | 2060-0443
Chemical Accident Prevention Provisions
68.12 | 2050-0144
68.15 | 2050-0144
68.39 | 2050-0144
68.42 | 2050-0144
68.48 | 2050-0144
68.50 | 2050-0144
68.52 | 2050-0144
68.56 | 2050-0144
68.58 | 2050-0144
68.60 | 2050-0144
68.65 | 2050-0144
68.67 | 2050-0144
68.69 | 2050-0144
68.71 | 2050-0144
68.73 | 2050-0144
68.75 | 2050-0144
68.79 | 2050-0144
68.81 | 2050-0144
68.83 | 2050-0144
68.85 | 2050-0144
68.95 | 2050-0144
68.120(a), (e), and (g) | 2050-0144
68.150 | 2050-0144
68.155 | 2050-0144
68.160 | 2050-0144
68.165 | 2050-0144
68.168 | 2050-0144
68.170 | 2050-0144
68.175 | 2050-0144
68.180 | 2050-0144
68.185 | 2050-0144
68.190 | 2050-0144
68.200 | 2050-0144
68.215 | 2050-0144
68.220 | 2050-0144
State Operating Permit Programs
70.3-70.11 | 2070-0243
Federal Operating Permit Programs
71.5 | 2060-0336
71.6(a), (c), (d), (g) | 2060-0336
71.7 | 2060-0336
71.9(e)-(j) | 2060-0336
71.24-71.26 | 2060-0276
Permits Regulations
72.7-72.10 | 2060-0258
72.14 | 2060-0258
72.20-72.25 | 2060-0258
72.30-72.33 | 2060-0258
72.40-72.44 | 2060-0258
72.50-72.51 | 2060-0258
72.60-72.69 | 2060-0258
72.70-72.74 | 2060-0258
72.80-72.85 | 2060-0258
72.90-72.96 | 2060-0258
Allowance System
73.10-73.13 | 2060-0261
73.16 | 2060-0261
73.18-73.21 | 2060-0261
73.30-73.38 | 2060-0258
73.50-73.53 | 2060-0258
73.70-73.77 | 2060-0221
73.80-73.86 | 2060-0258
73.90 | 2060-0258
Sulfur Dioxide Opt-Ins
74.12 | 2060-0258
74.14 | 2060-0258
74.16 | 2060-0258
74.18 | 2060-0258
74.20 | 2060-0258
74.22 | 2060-0258
74.24-74.25 | 2060-0258
74.41 | 2060-0258
74.43-74.44 | 2060-0258
74.46-74.47 | 2060-0258
74.60-74.64 | 2060-0258
Continuous Emission Monitoring
75.4-75.5 | 2060-0258
75.10-75.18 | 2060-0258
75.20-75.24 | 2060-0258
75.30-75.34 | 2060-0258
75.40-75.48 | 2060-0258
75.50-75.52 | 2060-0258
75.53-75.56 | 2060-0258
75.60-75.67 | 2060-0258
Nitrogen Oxides Emission Reduction Program
76.8-76.15 | 2060-0258
Excess Emissions
77.3-77.6 | 2060-0258
Appeal Procedures for Acid Rain Program
78.1-78.20 | 2060-0258
Registration of Fuels and Fuel Additives
79.10-79.11 | 2060-0150
79.20-79.21 | 2060-0150
79.31-79.33 | 2060-0150
79.51(a), (c), (d), (g), (h) | 2060-0150
79.52 | 2060-0150
79.57(a)(5) | 2060-0150
79.57(f)(5) | 2060-0150
79.58(e) | 2060-0150
79.59(b)-(d) | 2060-0150
79.60 | 2060-0150
79.61(e) | 2060-0150
79.62-79.68 | 2060-0297
Regulation of Fuels and Fuel Additives
80.20 | 2060-0066
80.25 | 2060-0066
80.27 | 2060-0178
80.29(c) | 2060-0308
80.40 | 2060-0277
80.46 | 2060-0277
80.65 | 2060-0277
80.68-80.69 | 2060-0277
80.74-80.77 | 2060-0277
80.79 | 2060-0277
80.83 | 2060-0277
80.91-80.93 | 2060-0277
80.101-80.106 | 2060-0277
80.125 | 2060-0277
80.127-80.130 | 2060-0277
80.141(c)-(f) | 2060-0275
80.157 | 2060-0275
80.158 | 2060-0275
80.160 | 2060-0275
80.161 | 2060-0275
80.162 | 2060-0275
80.163(d)(3) | 2060-0275
80.164 | 2060-0275
80.165 | 2060-0275
80.166 | 2060-0275
80.167(d) | 2060-0275
80.170 | 2060-0275
80.171 | 2060-0275
80.173 | 2060-0275
Protection of Stratospheric Ozone
82.9-82.13 | 2060-0170
82.21 | 2060-0170
82.36 | 2060-0247
82.38 | 2060-0247
82.40 | 2060-0247
82.42 | 2060-0247
82.122 | 2060-0259
82.156 | 2060-0256
82.160-82.162 | 2060-0256
82.164 | 2060-0256
82.166 | 2060-0256
82.176(a) | 2060-0226
82.176(c)(3) | 2060-0226
82.178 | 2060-0226
82.180 | 2060-0350
82.180(a)(5) | 2060-0226
82.180(b)(3) | 2060-0226
82.184(c) | 2060-0226
82.184(e) | 2060-0226
Phasedown of Hydrofluorocarbons
84.29 | 2060-0760
Control of Air Pollution From Motor Vehicles and Motor Vehicle Engines
85.503 | 2060-0104
85.505 | 2060-0104
85.1504 | 2060-0095
85.1505 | 2060-0095
85.1507 | 2060-0095
85.1508 | 2060-0095
85.1509 | 2060-0095
85.1511 | 2060-0095
85.1512 | 2060-0095
85.1705 | 2060-0104
85.1706 | 2060-0104
85.1708 | 2060-0104
85.1710 | 2060-0104
85.1802 | 2060-0104
85.1803 | 2060-0104
85.1806 | 2060-0104
85.1903 | 2060-0104
85.1904 | 2060-0104
85.1905 | 2060-0104
85.1906 | 2060-0104
85.1908 | 2060-0104
85.1909 | 2060-0104
85.2110 | 2060-0104
85.2114 | 2060-0060
85.2115 | 2060-0060
85.2116 | 2060-0060
85.2117 | 2060-0060
85.2118 | 2060-0060
85.2119 | 2060-0060
85.2120 | 2060-0060
85.2123 | 2060-0104
Control of Emissions From New and In-Use Highway Vehicles and Engines
86.000-7 | 2060-0104
86.000-24 | 2060-0104
86.001-21 | 2060-0104
86.001-23 | 2060-0104
86.001-24 | 2060-0104
86.004-28 | 2060-0104
86.004-38 | 2060-0104
86.004-40 | 2060-0104
86.079-31—86.079-33 | 2060-0104
86.079-39 | 2060-0104
86.080-12 | 2060-0104
86.082-34 | 2060-0104
86.085-37 | 2060-0104
86.090-27 | 2060-0104
86.091-7 | 2060-0104
86.094-21 | 2060-0104
86.094-25 | 2060-0104
86.094-30 | 2060-0104
86.095-14 | 2060-0104
86.095-35 | 2060-0104
86.096-24 | 2060-0104
86.098-23 | 2060-0104
86.099-10 | 2060-0104
86.107-98 | 2060-0104
86.108-00 | 2060-0104
86.111-94 | 2060-0104
86.113-15 | 2060-0104
86.113-94 | 2060-0104
86.129-00 | 2060-0104
86.142-90 | 2060-0104
86.144-94 | 2060-0104
86.150-98 | 2060-0104
86.155-98 | 2060-0104
86.159-08 | 2060-0104
86.160-00 | 2060-0104
86.161-00 | 2060-0104
86.162-03 | 2060-0104
86.163-00 | 2060-0104
86.412-78 | 2060-0104
86.414-78 | 2060-0104
86.415-78 | 2060-0104
86.416-80 | 2060-0104
86.421-78 | 2060-0104
86.423-78 | 2060-0104
86.427-78 | 2060-0104
86.428-80 | 2060-0104
86.429-78 | 2060-0104
86.431-78 | 2060-0104
86.432-78 | 2060-0104
86.434-78 | 2060-0104
86.435-78 | 2060-0104
86.436-78 | 2060-0104
86.437-78 | 2060-0104
86.438-78 | 2060-0104
86.439-78 | 2060-0104
86.440-78 | 2060-0104
86.445-2006 | 2060-0104
86.446-2006 | 2060-0104
86.447-2006 | 2060-0104
86.448-2006 | 2060-0104
86.449 | 2060-0104
86.513 | 2060-0104
86.537-90 | 2060-0104
86.542-90 | 2060-0104
86.603-98 | 2060-0104
86.604-84 | 2060-0104
86.605-98 | 2060-0104
86.606-84 | 2060-0104
86.607-84 | 2060-0104
86.609-98 | 2060-0104
86.612-97 | 2060-0104
86.614-84 | 2060-0104
86.615-84 | 2060-0104
86.884-5 | 2060-0104
86.884-7 | 2060-0104
86.884-9 | 2060-0104
86.884-10 | 2060-0104
86.884-12 | 2060-0104
86.884-13 | 2060-0104
86.1106-87 | 2060-0104
86.1107-87 | 2060-0104
86.1108-87 | 2060-0104
86.1110-87 | 2060-0104
86.1111-87 | 2060-0104
86.1113-87 | 2060-0104
86.1114-87 | 2060-0104
86.1805-17 | 2060-0104
86.1806-17 | 2060-0104
86.1809-12 | 2060-0104
86.1811-17 | 2060-0104
86.1823-08 | 2060-0104
86.1826-01 | 2060-0104
86.1829-15 | 2060-0104
86.1839-01 | 2060-0104
86.1840-01 | 2060-0104
86.1842-01 | 2060-0104
86.1843-01 | 2060-0104
86.1844-01 | 2060-0104
86.1845-04 | 2060-0104
86.1847-01 | 2060-0104
86.1862-04 | 2060-0104
86.1920-86.1925 | 2060-0287
Determining Conformity of Federal Actions to State or Federal Implementation Plans
Part 93, subpart A | 2060-0561
93.150-93.160 | 2060-0279
Mandatory Patent Licenses
95.2 | 2060-0307
Mandatory Greenhouse Gas Reporting
98.1-98.528 | 2060-0629
Recognition Awards Under the Clean Water Act
105.4(c) | 2040-0009, 2040-0101
105.7 | 2040-0009, 2040-0101
105.10 | 2040-0009, 2040-0101
Oil Pollution Prevention
112.1-112.7 | 2050-0021
Oil Pollution Prevention; Non-Transportation-Related Onshore Facilities
112.20 | 2050-0135
Designation, Reportable Quantities, and Notification for Hazardous Substances
116.4 | 2050-0046
117.3 | 2050-0046
117.21 | 2050-0046
EPA Administered Permit Programs: The National Pollutant Discharge Elimination System
122.21(f)-(l) | 2040-0086, 2040-0170
122.21(f) | 2040-0250
122.21(i) | 2040-0250
122.21(j), (q) | 2040-0086
122.21(m)-(p) | 2040-0068, 2040-0170
122.21(r) | 2040-0241, 2040-0257, 2040-0268
122.23(d), (e), (h) | 2040-0250
122.23(i) | 2040-0250
122.26(c), (d) | 2040-0086
122.26(g) | 2040-0211
122.28(b) | 2040-0250
122.41(h) | 2040-0068, 2040-0170
122.41(j) | 2040-0009, 2040-0110, 2040-0170
122.41(l) | 2040-0110, 2040-0068, 2040-0170
122.42(c) | 2040-0086
122.42(a), (b), (l) | 2040-0068, 2040-0170
122.42(e) | 2040-0250
122.44(g), (i) | 2040-0004, 2040-0170, 2040-0110
122.44(j) | 2040-0150
122.44(r) | 2040-0180
122.45(b) | 2040-0004, 2040-0110
122.45(b)(4) | 2040-0068
122.47(a) | 2040-0110, 2040-0170
122.47(b) | 2040-0110, 2040-0068, 2040-0170
122.48 | 2040-0004, 2040-0170
122.62(a) | 2040-0068, 2040-0170
122.63 | 2040-0068, 2040-0170
State Permit Requirements
123.21-123.24 | 2040-0057, 2040-0170
123.25 | 2040-0004, 2040-0110, 2040-0170, 2040-0180, 2040-0086
123.26-123.29 | 2040-0057, 2040-0170
123.35(b) | 2040-0211
123.43 | 2040-0057, 2040-0170
123.44 | 2040-0057, 2040-0170, 2040-0180
123.45 | 2040-0057, 2040-0170
123.62 | 2040-0057, 2040-0170, 2040-0180
123.63 | 2040-0057, 2040-0170, 2040-0180
123.64 | 2040-0057, 2040-0170
Procedures for Decisionmaking
124.5 | 2040-0068
124.31 | 2050-0149
124.32 | 2050-0149
124.33 | 2050-0149
124.53-124.54 | 2040-0057
Criteria and Standards for the National Pollutant Discharge Elimination System
125.59-125.67, and appendix A and B | 2040-0088
125.86 | 2040-0241
125.87 | 2040-0241
125.88 | 2040-0241
125.89 | 2040-0241
125.95 | 2040-0257
125.96 | 2040-0257
125.97 | 2040-0257
125.98 | 2040-0257
125.99 | 2040-0257
125.134 | 2040-0268
125.135 | 2040-0268
125.136 | 2040-0268
125.137 | 2040-0268
125.138 | 2040-0268
125.139 | 2040-0268
NPDES Electronic Reporting
127.24 | 2020-0037
127.26 | 2020-0035
Water Quality Planning and Management
130.6-130.10 | 2040-0071
130.15 | 2040-0071
Water Quality Standards Regulation
131.1 | 2040-0180
131.5 | 2040-0180
131.6-131.8 | 2040-0049
131.20 | 2040-0049
131.21 | 2040-0049, 2040-0180
131.22 | 2040-0049
131.31-131.36 | 2040-0049
Water Quality Guidance for the Great Lakes System
132.1 | 2040-0180
132.2 | 2040-0180
132.3 | 2040-0180
132.4 | 2040-0180
132.5 | 2040-0180
Part 132, appendix A | 2040-0180
Part 132, appendix B | 2040-0180
Part 132, appendix C | 2040-0180
Part 132, appendix D | 2040-0180
Part 132, appendix E | 2040-0180
Part 132, appendix F | 2040-0180
Marine Sanitation Device Standard
Part 140 | 2040-0187
National Primary Drinking Water Regulations
141.2 | 2040-0090
141.4 | 2040-0090
141.11-141.15 | 2040-0090
141.21 | 2040-0205
141.22 | 2040-0090
141.23A(a)-(b) | 2040-0204
141.23(d)-141.24 | 2040-0204
141.25 | 2040-0090
141.25(a)-(e) | 2040-0090
141.26 | 2040-0204
141.26(a)-(b) | 2040-0228
141.27-141.30 | 2040-0090
141.31(a)-(c) and (e) | 2040-0204
141.31(d) | 2040-0090
141.32(a)-(g) | 2040-0090
141.33(a)-(d) | 2040-0204
141.33(e) | 2040-0090
141.35 | 2040-0270
141.40 | 2040-0270
141.41 | 2040-0090
141.42-141.43 | 2040-0204
141.50-141.52 | 2040-0090
141.60-141.63 | 2040-0090
141.70-141.74 | 2040-0090
141.75 | 2040-0205
141.76 | 2040-0205
141.80-141.91 | 2040-0204
141.100 | 2040-0090
141.110 | 2040-0090
141.111 | 2040-0204
141.130-141.132 | 2040-0204
141.134-141.135 | 2040-0204
141.140-141.144 | 2040-0090
141.153-141.154 | 2040-0090
141.155(a)-(g)(1) and (h) | 2040-0090
141.170 | 2040-0205
141.172 | 2040-0205
141.173 | 2040-0205
141.174(a)-(b) | 2040-0205
141.175(a)-(b) | 2040-0205
141.175(c) | 2040-0090
141.201-141.210 | 2040-0090
141.401-141.405 | 2040-0271
141.530-141.536 | 2040-0229
141.540-141.544 | 2040-0229
141.550-141.553 | 2040-0229
141.560-141.564 | 2040-0229
141.570-141.571 | 2040-0229
141.600-141.605 | 2040-0265
141.620-141.626 | 2040-0265
141.629 | 2040-0265
141.706-141.710 | 2040-0266
141.713-141.714 | 2040-0266
141.716-141.723 | 2040-0266
National Primary Drinking Water Regulations Implementation
142.2-142.3 | 2040-0090
142.10 | 2040-0090
142.11 | 2040-0090
142.12 | 2040-0090
142.14(a)(1)-(7) | 2040-0205
142.14(a)(8) | 2040-0265
142.14(a)(9) | 2040-0266
142.14(b)-(d) | 2040-0090
142.14(b)-(d)(1) | 2040-0090
142.14(d)(2)-(7) | 2040-0204
142.14(d)(4)-(5) | 2040-0228
142.14(d)(6)-(7) | 2040-0090
142.14(d)(12)(i)-(iv) | 2040-0204
142.14(d)(13)-(16) | 2040-0204
142.14(d)(17) | 2040-0271
142.14(e)-(g) | 2040-0090
142.15(a)-(b) | 2040-0090
142.15(c)(1)-(5) | 2040-0205
142.15(c)(5) | 2040-0090
142.15(c)(6) | 2040-0266
142.15(c)(7) | 2040-0271
142.15(d) | 2040-0090
142.16(a) | 2040-0090
142.16(b) | 2040-0205
142.16(c) | 2040-0090
142.16(e) | 2040-0204
142.16(f) | 2040-0090
142.16(g) | 2040-0205
142.16(h) | 2040-0204
142.16(i) | 2040-0205
142.16(j) | 2040-0229
142.16(k)(1) | 2040-0204
142.16(l)(1) and (2) | 2040-0204
142.16(m) | 2040-0265
142.16(n) | 2040-0266
142.16(o) | 2040-0271
142.17-142.24 | 2040-0090
142.51 | 2040-0090
142.56-142.57 | 2040-0090
142.60-142.61 | 2040-0090
142.62 | 2040-0090
142.63-142.64 | 2040-0090
142.70-142.78 | 2040-0090
142.81 | 2040-0090
142.306-142.308 | 2040-0090
142.311-142.312 | 2040-0090
Underground Injection Control Program
144.8 | 2040-0042
144.12 | 2040-0042
144.14-144.15 | 2040-0042
144.23 | 2040-0042
144.25-144.28 | 2040-0042
144.31-144.33 | 2040-0042
144.38 | 2040-0042
144.41 | 2040-0042
144.51-144.55 | 2040-0042
144.62-144.66 | 2040-0042
144.70 | 2040-0042
144.79-144.89 | 2040-0214
145.23 | 2040-0214
Underground Injection Control Program: Criteria and Standards
146.10 | 2040-0042
146.12-146.15 | 2040-0042
146.22-146.25 | 2040-0042
146.32-146.35 | 2040-0042
146.52 | 2040-0042
146.64 | 2040-0042
146.66-146.73 | 2040-0042
State Underground Injection Control Programs
147.104 | 2040-0042
147.304-147.305 | 2040-0042
147.504 | 2040-0042
147.754 | 2040-0042
147.904 | 2040-0042
147.1154 | 2040-0042
147.1354-147.1355 | 2040-0042
147.1454 | 2040-0042
147.1654 | 2040-0042
147.1954 | 2040-0042
147.2103-147.2104 | 2040-0042
147.2154 | 2040-0042
147.2402 | 2040-0042
147.2905 | 2040-0042
147.2912-147.2913 | 2040-0042
147.2915 | 2040-0042
147.2918 | 2040-0042
147.2920-147.2926 | 2040-0042
147.2929 | 2040-0042
147.3002-147.3003 | 2040-0042
147.3006-147.3007 | 2040-0042
147.3011 | 2040-0042
147.3014-147.3016 | 2040-0042
147.3101 | 2040-0042
147.3104-147.3105 | 2040-0042
147.3107-147.3109 | 2040-0042
Hazardous Waste Injection Restrictions
148.5 | 2040-0042
148.20-148.23 | 2040-0042
Pesticide Registration and Classification Procedures
Part 152 Subpart B | 2070-0187
Part 152 Subpart C, E, G, I, and U | 2070-0226
Registration Standards and Registration Review
Part 155 | 2070-0174
Labeling Requirements for Pesticides and Devices
Part 156 | 2070-0226
Packaging Requirements for Pesticides and Devices
Part 157 | 2070-0226
Data Requirements for Registration
Part 158 | 2070-0174, 2070-0226
Statements of Policies and Interpretations
Part 159, subpart D | 2070-0226
Good Laboratory Practice Standards
Part 160 | 2070-0174, 2070-0226
Data Requirements for Registration of Antimicrobial Pesticides
Part 161 | 2070-0174, 2070-0226
State Registration of Pesticide Products
162.153 | 2070-0226
Pesticide Management and Disposal
Part 165 | 2070-0133
Exemption of Federal and State Agencies for Use of Pesticides Under Emergency Conditions
Part 166 | 2070-0226
Registration of Pesticide and Active Ingredient Producing Establishments, Submission of Pesticide Reports
Part 167 | 2070-0078
Statements of Enforcement Policies and Interpretations
168.75 | 2070-0027
168.85 | 2070-0027, 2070-0028, 2070-0078
Books and Records of Pesticide Production and Distribution
169.2 | 2070-0028
Worker Protection Standard
Part 170 | 2070-0190
Certification of Pesticide Applicators
Part 171 | 2070-0196, 2070-0029
Experimental Use Permits
Part 172 | 2070-0226
Procedures and Requirements for Plant-Incorporated Protectants
Part 174 | 2070-0214, 2070-0226
Tolerances and Exemptions for Pesticide Chemical Residues in Food
Part 180 | 2070-0226
404 State Program Regulations
233.10-233.12 | 2040-0168
233.21 | 2040-0168
233.30 | 2040-0168
233.50 | 2040-0168
233.52 | 2040-0168
233.61 | 2040-0140
Criteria for Classification of Solid Waste Disposal Facilities and Practices
257.8 | 2050-0154
257.21(b) | 2050-0154
257.21(h) | 2050-0154
257.23 | 2050-0154
257.24 | 2050-0154
257.25 | 2050-0154
257.27 | 2050-0154
257.30 | 2050-0154
Disposal of Coal Combustion Residuals From Electric Utilities
257.50-257.107 | 2050-0223
Criteria for Municipal Solid Waste Landfills
Part 258 | 2050-0122
258.10-258.16 | 2050-0122
258.20 | 2050-0122
258.23 | 2050-0122
258.28-258.29 | 2050-0122
258.51 | 2050-0122
258.53-258.55 | 2050-0122
258.57-258.58 | 2050-0122
258.60-258.61 | 2050-0122
258.71-258.74 | 2050-0122
Hazardous Waste Management System: General
260.20-260.22 | 2050-0053
260.23 | 2050-0145
260.31-260.33 | 2050-0053
Identification and Listing of Hazardous Waste
261.3 | 2050-0085
261.4 | 2050-0053
261.4(h)(4) | 2050-0207
261.35 | 2050-0115
261.39 | 2050-0053
261.40 | 2050-0053
261.41 | 2050-0053
Standards Applicable to Generators of Hazardous Waste
262.12 | 2050-0028
262.20 | 2050-0039
262.22-262.23 | 2050-0039
262.34 | 2050-0035, 2050-0085
262.40(a) | 2050-0039
262.40(b) | 2050-0024
262.40(c) | 2050-0035
262.41 | 2050-0024
262.42 | 2050-0039
262.43 | 2050-0035
262.44(a)-(b) | 2050-0039
262.44(c) | 2050-0035
262.53-262.57 | 2050-0035
262.60 | 2050-0035
262.83-262.85 | 2050-0143
262.87 | 2050-0143
262.90(c), (d), (f), (g) | 2010-0026
Standards Applicable to Transporters of Hazardous Waste
263.11 | 2050-0028
263.20-263.22 | 2050-0039
263.30 | 2050-0039
Standards for Owners and Operators of Hazardous Waste Treatment, Storage, and Disposal Facilities
264.11 | 2050-0028
264.12(a) | 2050-0120
264.13 | 2050-0120, 2050-0009
264.14 | 2050-0009
264.15 | 2050-0120, 2050-0009
264.16 | 2050-0120, 2050-0009
264.17 | 2050-0120
264.18 | 2050-0009
264.19 | 2050-0009
264.32 | 2050-0009
264.35 | 2050-0009
264.37 | 2050-0120
264.51 | 2050-0009
264.52 | 2050-0009
264.53 | 2050-0120
264.54 | 2050-0120
264.56 | 2050-0120
264.71 | 2050-0039
264.72 | 2050-0039
264.73 | 2050-0120
264.74 | 2050-0120
264.75 | 2050-0024
264.76 | 2050-0039
264.90 | 2050-0009
264.96 | 2050-0120
264.97(g) | 2050-0120
264.97(h) | 2050-0009
264.97(j) | 2050-0120
264.98(c), (g)(1), (g)(5), (g)(6) | 2050-0033
264.98(g)(4), (h) | 2050-0009
264.99(c), (g), (h)(1), (i)(1), (i)(2) | 2050-0033
264.99(h)(2), (i)(3), (j) | 2050-0009
264.100(e), (f), (g) | 2050-0033
264.100(h) | 2050-0009
264.101 | 2050-0120
264.112(a), (b), (c) | 2050-0009
264.112(d) | 2050-0120
264.113(a), (b), (d) | 2050-0120
264.113(e) | 2050-0050
264.115 | 2050-0120
264.116 | 2050-0120
264.118 | 2050-0009
264.119(a), (b) | 2050-0120
264.119(c) | 2050-0009
264.120 | 2050-0120
264.142(a) | 2050-0009
264.142(b), (c), (d) | 2050-0120
264.143 | 2050-0120
264.144(a) | 2050-0009
264.144(b), (c), (d) | 2050-0120
264.145 | 2050-0120
264.147(a)(7), (b)(7), (f), (g) | 2050-0120
264.147(a)(1), (b)(1), (c), (f), (g), (h), (i), (j) | 2050-0009
264.148 | 2050-0120
264.149 | 2050-0009
264.150 | 2050-0009
264.190 | 2050-0050
264.191 | 2050-0050
264.192(a) | 2050-0009
264.192(g) | 2050-0050
264.193(c), (d), (e), (g), (h) | 2050-0009
264.193(i) | 2050-0050
264.196 | 2050-0050
264.197(b) | 2050-0050
264.197(c) | 2050-0009
264.221 | 2050-0009
264.222(a) | 2050-0009
264.222(b) | 2050-0050
264.223(a) | 2050-0009
264.223(b), (c) | 2050-0050
264.226(c) | 2050-0050, 2050-0009
264.226(d) | 2050-0050
264.227 | 2050-0050
264.231 | 2050-0009
264.251 | 2050-0009
264.252(a) | 2050-0009
264.252(b) | 2050-0050
264.253(a) | 2050-0009
264.253(b), (c) | 2050-0050
264.254 | 2050-0050
264.259 | 2050-0009
264.271 | 2050-0009
264.272 | 2050-0009
264.276 | 2050-0050, 2050-0009
264.278(a)-(f), (h) | 2050-0050
264.278(g) | 2050-0050, 2050-0009
264.280 | 2050-0050
264.283 | 2050-0009
264.301 | 2050-0009
264.302(a) | 2050-0009
264.302(b) | 2050-0050
264.303(a) | 2050-0009
264.303(b) | 2050-0050
264.304(a) | 2050-0009
264.304(b), (c) | 2050-0050
264.314 | 2050-0050
264.317 | 2050-0009
264.340 | 2050-0009
264.343 | 2050-0050
264.344 | 2050-0009
264.347 | 2050-0050
264.552 | 2050-0009
264.570 | 2050-0050
264.571 | 2050-0050
264.573 | 2050-0050
264.574 | 2050-0050
264.575 | 2050-0009
264.603 | 2050-0050
264.1033(a) | 2050-0009
264.1033(j) | 2050-0050
264.1034 | 2050-0050
264.1035 | 2050-0050
264.1036 | 2050-0050
264.1061 | 2050-0050
264.1062 | 2050-0050
264.1063 | 2050-0050
264.1064 | 2050-0050, 2050-0009
264.1065 | 2050-0050
264.1089 | 2060-0318
264.1090 | 2060-0318
264.1100 | 2050-0050
264.1101 | 2050-0050
Interim Status Standards for Owners and Operators of Hazardous Waste Treatment, Storage, and Disposal Facilities
265.11 | 2050-0028
265.12(a) | 2050-0120
265.13 | 2050-0120
265.15 | 2050-0120
265.16 | 2050-0120
265.19 | 2050-0120
265.37 | 2050-0120
265.51 | 2050-0120
265.52 | 2050-0120
265.53 | 2050-0120
265.54 | 2050-0120
265.56 | 2050-0120
265.71 | 2050-0039
265.72 | 2050-0039
265.73 | 2050-0120
265.75 | 2050-0024
265.76 | 2050-0039
265.90 | 2050-0033
265.92 | 2050-0033
265.93 | 2050-0033
265.94 | 2050-0033
265.112 | 2050-0120
265.113(a), (b), (d) | 2050-0120
265.113(e) | 2050-0050
265.115 | 2050-0120
265.116 | 2050-0120
265.118 | 2050-0120
265.119 | 2050-0120
265.120 | 2050-0120
265.142 | 2050-0120
265.143 | 2050-0120
265.144 | 2050-0120
265.145 | 2050-0120
265.147 | 2050-0120
265.148 | 2050-0120
265.149 | 2050-0120
265.150 | 2050-0120
265.190 | 2050-0035, 2050-0050
265.191 | 2050-0035, 2050-0050
265.192 | 2050-0035, 2050-0050
265.193 | 2050-0035, 2050-0050
265.195 | 2050-0120
265.196 | 2050-0035, 2050-0050
265.197(b) | 2050-0050
265.197(c) | 2050-0120
265.221 | 2050-0050
265.222 | 2050-0050
265.223 | 2050-0050
265.225 | 2050-0050
265.226 | 2050-0050
265.229 | 2050-0050
265.254 | 2050-0050
265.255 | 2050-0050
265.259 | 2050-0050
265.260 | 2050-0050
265.273 | 2050-0120
265.276 | 2050-0050
265.278 | 2050-0050
265.280 | 2050-0050
265.301 | 2050-0050
265.302 | 2050-0050
265.303 | 2050-0050
265.304 | 2050-0050
265.314 | 2050-0050
265.340 | 2050-0050
265.352 | 2050-0050
265.383 | 2050-0050
265.404 | 2050-0050
265.440 | 2050-0050
265.441 | 2050-0050
265.443 | 2050-0050
265.444 | 2050-0050
265.445 | 2050-0120
265.1033 | 2050-0050
265.1034 | 2050-0050
265.1035 | 2050-0050
265.1061 | 2050-0050
265.1062 | 2050-0050
265.1063 | 2050-0050
265.1064 | 2050-0050
265.1090 | 2060-0318
265.1100 | 2050-0050
265.1101 | 2050-0050
Standards for the Management of Specific Hazardous Wastes and Specific Types of Hazardous Waste Management Facilities
266.70(b) | 2050-0028
266.70(c) | 2050-0050
266.80 | 2050-0028
266.100 | 2050-0073
266.102 | 2050-0073
266.103 | 2050-0073
266.104 | 2050-0073
266.106 | 2050-0073
266.107 | 2050-0073
266.108 | 2050-0073
266.109 | 2050-0073
266.111 | 2050-0073
266.112 | 2050-0073
Appendix IX | 2050-0073
Land Disposal Restrictions
268.4-268.5 | 2050-0085
268.6 | 2050-0062
268.7 | 2050-0085
268.9 | 2050-0085
268.42 | 2050-0085
268.44 | 2050-0085
EPA Administered Permit Programs: The Hazardous Waste Permit Program
270.1 | 2050-0028, 2050-0034, 2050-0009
270.10 | 2050-0009
270.11 | 2050-0034
270.13 | 2050-0034
270.14 | 2050-0009
270.14(b)(21) | 2050-0062, 2050-0085
270.15 | 2050-0009
270.16 | 2050-0009
270.17 | 2050-0009
270.18 | 2050-0009
270.19 | 2050-0009
270.20 | 2050-0009
270.21 | 2050-0009
270.22 | 2050-0073
270.23 | 2050-0009
270.24 | 2050-0009
270.25 | 2050-0009
270.26 | 2050-0115
270.30 | 2050-0120
270.33 | 2050-0009
270.40 | 2050-0009
270.41 | 2050-0009
270.42 | 2050-0009
270.51 | 2050-0009
270.62 | 2050-0009, 2050-0149
270.63 | 2050-0009
270.65 | 2050-0009
270.66 | 2050-0073, 2050-0149
270.72 | 2050-0034
270.73 | 2050-0009
Requirements for Authorization of State Hazardous Waste Programs
271.5-271.8 | 2050-0041
271.20-271.21 | 2050-0041
271.23 | 2050-0041
Standards for Universal Waste Management
273.14 | 2050-0145
273.15 | 2050-0145
273.18 | 2050-0145
273.32 | 2050-0145
273.34 | 2050-0145
273.35 | 2050-0145
273.38 | 2050-0145
273.39 | 2050-0145
273.61 | 2050-0145
273.62 | 2050-0145
273.80 | 2050-0145
Standards for Management of Used Oil
279.10-279.11 | 2050-0124
279.42 | 2050-0028, 2050-0124
279.43-279.44 | 2050-0124
279.46 | 2050-0050
279.51 | 2050-0028
279.52-279.55 | 2050-0124
279.56 | 2050-0050
279.57 | 2050-0050, 2050-0124
279.62 | 2050-0028
279.63 | 2050-0124
279.65-279.66 | 2050-0050
279.72 | 2050-0050
279.73 | 2050-0028
279.74-279.75 | 2050-0050
279.82 | 2050-0124
Technical Standards and Corrective Action Requirements for Owners and Operators of Underground Storage Tanks (USTs)
280.11(a) | 2050-0068
280.20(a)-(b) | 2050-0068
280.20(e) | 2050-0068
280.22(a)-(f) | 2050-0068
280.22(g) | 2050-0068
280.31 | 2050-0068
280.33(f) | 2050-0068
280.34(a) | 2050-0068
280.34(b) | 2050-0068
280.34(c) | 2050-0068
280.40 | 2050-0068
280.43 | 2050-0068
280.44 | 2050-0068
280.45 | 2050-0068
280.50 | 2050-0068
280.53 | 2050-0068
280.61 | 2050-0068
280.62 | 2050-0068
280.63 | 2050-0068
280.64 | 2050-0068
280.65 | 2050-0068
280.66(a) | 2050-0068
280.66(c) | 2050-0068
280.66(d) | 2050-0068
280.67 | 2050-0068
280.71(a) | 2050-0068
280.72(a) | 2050-0068
280.74 | 2050-0068
280.95 | 2050-0068
280.96 | 2050-0068
280.97 | 2050-0068
280.98 | 2050-0068
280.99 | 2050-0068
280.100 | 2050-0068
280.101 | 2050-0068
280.102 | 2050-0068
280.103 | 2050-0068
280.104 | 2050-0068
280.105 | 2050-0068
280.106 | 2050-0068
280.107 | 2050-0068
280.108 | 2050-0068
280.109(a) | 2050-0068
280.109(b) | 2050-0068
280.110 | 2050-0068
280.111 | 2050-0068
280.111(b)(11) | 2050-0068
280.114(a)-(d) | 2050-0068
280.114(e) | 2050-0068
Approval of State Underground Storage Tank Programs
281.120(a) | 2050-0068
281.120(g) | 2050-0068
281.121 | 2050-0068
281.122 | 2050-0068
281.124 | 2050-0068
281.125 | 2050-0068
281.140 | 2050-0068
281.143(a) | 2050-0068
281.150 | 2050-0068
281.152 | 2050-0068
281.161 | 2050-0068
National Oil and Hazardous Substances Pollution Contingency Plan
300.405 | 2050-0046
300.425 | 2050-0095
300.430 | 2050-0096
300.435 | 2050-0096
300.920 | 2050-0141
Part 300, appendix A | 2050-0095
Designation, Reportable Quantities, and Notification
302.4 | 2050-0046
302.6 | 2050-0046
302.8 | 2050-0086
Hazardous Substances Superfund; Response Claims Procedures
307.11-307.14 | 2050-0106
307.21-307.23 | 2050-0106
307.30-307.32 | 2050-0106
Reimbursement to Local Governments for Emergency Response to Hazardous Substance Releases
310.05 | 2050-0077
310.10-310.12 | 2050-0077
310.20 | 2050-0077
310.30 | 2050-0077
310.40 | 2050-0077
310.50 | 2050-0077
310.60 | 2050-0077
310.70 | 2050-0077
310.80 | 2050-0077
310.90 | 2050-0077
Part 310, appendix II | 2050-0077
Worker Protection Standards for Hazardous Waste Operations and Emergency Response
311.1-311.2 | 2050-0105
Trade Secrecy Claims for Emergency Planning and Community Right-to-Know; Health Professionals
350.5-350.16 | 2050-0078
350.27 | 2050-0078
350.40 | 2050-0078
Emergency Planning and Notification
Part 355; appendix A, appendix B | 2050-0092
Hazardous Chemical Reporting: Community Right-to-Know
370.21 | 2050-0072
370.25 | 2050-0072
370.30 | 2050-0072
Toxic Chemical Release Reporting: Community Right-to-Know
Part 372, Subpart A | 2070-0212
372.22 | 2070-0212, 2070-0225
372.25 | 2070-0212, 2070-0225
372.27 | 2070-0212
372.28 | 2070-0225
372.29 | 2070-0225
372.30 | 2070-0212, 2070-0225
372.38 | 2070-0212, 2070-0225
372.45 | 2070-0225
Part 372, Subpart C | 2070-0212
Part 372, Subpart D | 2070-0212
372.85 | 2070-0212, 2070-0216
372.95 | 2070-0212; 2070-0216
General Pretreatment Regulations for Existing and New Sources of Pollution
403.5(b) | 2040-0009
403.6-403.7 | 2040-0009
403.8(a)-(e) | 2040-0009
403.8(f) | 2040-0009
403.9-403.10 | 2040-0009
403.12(b)-(g) | 2040-0009
403.12(h), (i) | 2040-0009
403.12(j), (k), (l), (o) | 2040-0009
403.12(m), (p) | 2040-0009
403.12(q) | 2040-0009
403.13 | 2040-0009
403.15 | 2040-0009
403.17-403.18 | 2040-0009; 2040-0170
Feedlots Points Source Category
412.31-412.37 | 2040-0250
412.41-412.47 | 2040-0250
Steam Electric Generating Point Source Category
423.12-423.13 | 2040-0033
423.15 | 2040-0033
Pulp, Paper, and Paperboard Point Source Category
430.02(a)-(e) | 2040-0243
430.02(f) | 2040-0242
430.03 | 2040-0207
430.14-430.17 | 2040-0033
430.24(a) | 2040-0033
430.24(b) | 2040-0033; 2040-0202
430.24(c) | 2040-0202
430.24(d) | 2040-0033
430.24(e) | 2040-0033
430.25-430.27 | 2040-0033
430.54-430.57 | 2040-0033
430.64-430.67 | 2040-0033
430.74-430.77 | 2040-0033
430.84-430.87 | 2040-0033
430.94-430.97 | 2040-0033
430.104-430.107 | 2040-0033
430.114-430.117 | 2040-0033
430.134-430.137 | 2040-0033
430.144-430.147 | 2040-0033
430.154-430.157 | 2040-0033
430.164-430.167 | 2040-0033
430.174-430.177 | 2040-0033
430.184-430.187 | 2040-0033
430.194-430.197 | 2040-0033
430.204-430.207 | 2040-0033
430.214-430.217 | 2040-0033
430.224-430.227 | 2040-0033
430.234-430.237 | 2040-0033
430.244-430-247 | 2040-0033
430.254-430-257 | 2040-0033
430.264-430-267 | 2040-0033
The Builders’ Paper and Board Mills Point Source Category
431.14-431.17 | 2040-0033
Coal Mining Point Source Category
434.72-434.75 | 2040-0239
434.82-434.83 | 2040-0239
434.85 | 2040-0239
Part 434, Appendix B | 2040-0239
Oil and Gas Extraction Point Source Category
435.13 | 2040-0230
435.15 | 2040-0230
435.43 | 2040-0230
435.45 | 2040-0230
Pharmaceutical Manufacturing Point Source Category
439.14-439.17 | 2040-0033
439.24-439.27 | 2040-0033
439.34-439.37 | 2040-0033
439.44-439.47 | 2040-0033
Airport Deicing Point Source Category
449.10(a) | 2040-0285
Concentration Aquatic Animal Production Point Source Category
451.3 | 2040-0258
451.11(d) | 2040-0258
451.21(g) | 2040-0258
Coil Coating Point Source Category
465.03 | 2040-0033
Porcelain Enameling Point Source Category
466.03 | 2040-0033
Aluminum Forming Point Source Category
467.03 | 2040-0033
State Sludge Management Program Requirements
501.15(a) | 2040-0086, 2040-0110
501.15(b) | 2040-0004, 2040-0068, 2040-0110
501.15(c) | 2040-0068
501.16 | 2040-0057
501.21 | 2040-0057
Standards for the Use or Disposal of Sewage Sludge
503.17-503.18 | 2040-0157
503.27-503.28 | 2040-0157
503.47-503.48 | 2040-0157
Fuel Economy of Motor Vehicles
600.005 | 2060-0104
600.006 | 2060-0104
600.007 | 2060-0104
600.010 | 2060-0104
600.113-12 | 2060-0104
600.206-12 | 2060-0104
600.207-12 | 2060-0104
600.209-12 | 2060-0104
600.301—600.314-08 | 2060-0104
600.507-12 | 2060-0104
600.509-12 | 2060-0104
600.510-12 | 2060-0104
600.512-12 | 2060-0104
Toxic Substances Control Act: General
700.45 | 2070-0038, 2070-0208
General Practices and Procedures
702 Subpart B | 2070-0231
Confidentiality Claims
Part 703 | 2070-0038, 2070-0223
Reporting and Recordkeeping Requirements
Part 704 | 2070-0162, 2070-0194, 2070-0222, 2070-0223, 2070-0224
Reporting and Recordkeeping Requirements for Certain Per- and Polyfluoroalkyl Substances
Part 705 | 2070-0217
Chemical Imports and Exports
Part 707 | 2070-0223, 2070-0030
Compilation of the TSCA Chemical Substance Inventory
Part 710, Subpart B | 2070-0201
TSCA Chemical Data Reporting Requirements
Part 711 | 2070-0162
Chemical Information Rules
Part 712 | 2070-0162, 2070-0224
Reporting Requirements for the TSCA Inventory of Mercury Supply, Use, and Trade
Part 713 | 2070-0207
Health and Safety Data Reporting
Part 716 | 2070-0223, 2070-0224
Records and Reports of Allegations That Chemical Substances Cause Significant Adverse Reactions to Health or the Environment
Part 717 | 2070-0223, 2070-0224
Premanufacture Notification
Part 720 | 2070-0038, 2070-0223
Significant New Uses of Chemical Substances
Part 721 | 2070-0038
Premanufacture Notification Exemptions
Part 723 | 2070-0038, 2070-0223
Reporting Requirements and Review Processes for Microorganisms
Part 725 | 2070-0038, 2070-0233
Lead-Based Paint Poisoning Prevention in Certain Residential Structures
Part 745, subpart D | 2070-0227
Part 745, subpart E | 2070-0195, 2070-0227
Part 745, subpart F | 2070-0151, 2070-0227
Part 745, subpart L | 2070-0195, 2070-0227
Part 745, subpart Q | 2070-0195, 2070-0227
Water Treatment Chemicals
Part 749 | 2070-0193
Regulations of Certain Chemical Substances and Mixtures Under Section 6 of the Toxic Substances Control Act
Part 751, subpart B | 2070-0204, 2070-0229
Part 751, subpart D | 2070-0232
Part 751, subpart E | 2070-0213, 2070-0230
Part 751, subpart F | 2070-0220
Part 751, subpart G | 2070-0233
Part 751, subpart H | 2070-0228
Polychlorinated Biphenyls (PCBs) Manufacturing, Processing, Distribution in Commerce, and Use Prohibitions
Part 761 | 2070-0112
Asbestos
Part 763, subpart E | 2070-0091
Part 763, subpart G | 2070-0072
Dibenzo-para-dioxin/Dibenzofurans
Part 766 | 2070-0224
Formaldehyde Standards for Composite Wood Products
Part 770 | 2070-0185
Procedures Governing Testing Consent Agreements and Test Rules
Part 790 | 2070-0033, 2070-0223
Good Laboratory Practice Standards
Part 792 | 2070-0033, 2070-0224
Provisional Test Guidelines
Part 792 | 2070-0033
Identification of Specific Chemical Substance and Mixture Testing Requirements
Part 799 | 2070-0033
Fees for Engine, Vehicles, and Equipment Compliance Programs
127.140 | 2060-0104, 2060-0545
Control of Emissions From Locomotives
1033.925 | 2060-0287
Control of Emissions From New and In-Use Heavy-Duty Highway Engines
1036.825 | 2060-0678
Control of Emissions From New Heavy-Duty Motor Vehicles
1037.825 | 2060-0678
Control of Emissions From New and In-Use Nonroad Compression-Ignition Engines
1039.825 | 2060-0287
Control of Emissions From New and In-use Marine Compression-ignition Engines and Vessels
1042.925 | 2060-0827
Control of NO X, SO X, and PM Emissions From Marine Engines and Vessels Subject to the Marpol Protocol
1043.40-1043.95 | 2060-0641
Control of Emissions From Spark-Ignition Propulsion Marine Engines
1045.825 | 2060-0321
Control of Emissions From New, Large Nonroad Spark-Ignition Engines
1048.825 | 2060-0338
Control of Emissions From Recreational Engines and Vehicles
1051.825 | 2060-0338
Control of Emissions From New, Small Nonroad Spark-Ignition Engines and Equipment
1054.825 | 2060-0338
Control of Evaporative Emissions From New and In-Use Nonroad and Stationary Equipment
1060.825 | 2060-0321, 2060-0338
Control of Air Pollution From Aircraft Engines
1031.150 | 2060-0680
1031.160 | 2060-0680
General Compliance Provisions for Nonroad Programs
1068.5 | 2040-0460
1068.25 | 2040-0460
1068.27 | 2040-0460
1068.120 | 2040-0460
1068.201-260 | 2040-0460
1068.301-355 | 2040-0460
1068.450 | 2040-0460
1068.455 | 2040-0460
1068.501 | 2040-0460
1068.525 | 2040-0460
1068.530 | 2040-0460
Distribution of Off-Site Consequence Analysis Information
1400.3 | 2050-0172
1400.4 | 2050-0172
1400.6 | 2050-0172
1400.9 | 2050-0172
Uniform National Discharge Standards for Vessels of the Armed Forces
1700.9-1700.12 | 2040-0187
¹ The ICRs referenced in this section of the table encompass the applicable general provisions contained in 40 CFR part 60, subpart A, which are not independent information collection requirements.
² The ICRs referenced in this section of the table encompass the applicable general provisions contained in 40 CFR part 61, subpart A, which are not independent information collection requirements.
³ The ICRs referenced in this section of the table encompass the applicable general provisions contained in 40 CFR part 63, subpart A, which are not independent information collection requirements.

[FR Doc. 2025-11573 Filed 6-27-25; 8:45 am]

BILLING CODE 6560-50-P